DEPARTMENT OF AGRICULTURE

Forest Service

Siskiyou Resource Advisory Committee (RAC); Meeting

AGENCY: Forest Service, USDA.

ACTION: Meeting.

SUMMARY: The Siskiyou Resource Advisory Committee (RAC) will meet on Monday, February 4, and Tuesday, February 5, 2002. Monday's meeting is scheduled to begin at 1 p.m. and conclude at approximately 4:30 p.m. Tuesday's meeting will begin at 9:30 a.m. and will conclude at approximately 4:30 p.m. The meeting will be held at the Chetco Community Public Library, 405 Alder Street, Brookings, Oregon. The tentative agenda for February 4 includes: (1) FACA overview; (2) Roles and responsibilities for Advisory Committees; (3) Timelines for projects related to the Secure Rural Schools and Community Self-Determination Act of 2000; (4) Election of the RAC chairperson; and (5) Public Forum. The public forum is tentatively scheduled to begin at 3:20 p.m. Time allotted for individual presentations will be limited to 3-4 minutes. The tentative agenda for February 5 includes: (1) Presentation of projects proposed by the Forest Service; (2) Public forum. The public forum is tentatively scheduled to begin at 2 p.m. Time allotted for individual presentations will be limited to 3-4 minutes. Written comments are encouraged, particularly if the material cannot be presented within the time limits for the public forum. Written comments may be submitted prior to the February 4 and 5 meetings by sending them to the Designated Federal Official Jack E. Williams at the address given below.

FOR FURTHER INFORMATION CONTACT: Designated Federal Official Jack E. Williams; Rogue and Siskiyou national forests; P.O. Box 520, Medford, Oregon 97501; (541) 858-2200.

Dated: January 7, 2002.
Jack E. Williams,
Forest Supervisor, Rogue River and Siskiyou National Forests.

[FR Doc. 02-693 Filed 1-10-02; 8:45 am]

BILLING CODE 3410-11-M